NATIONAL FOUNDATION ON THE ARTS AND THE HUMANITIES

National Endowment for the Humanities

Agency Information Collection Request; 60-Day Public Comment Request

AGENCY: National Endowment for the Humanities; National Foundation on the Arts and the Humanities.

ACTION: Notice; request for comments.

SUMMARY: The National Endowment for the Humanities (NEH) is seeking Office of Management and Budget (OMB) approval for the information collection described below. In accordance with the Paperwork Reduction Act of 1995, NEH is requesting comments from all interested individuals and organizations on this proposed collection.

DATES: Please submit comments by December 9, 2019.

ADDRESSES: Submit comments to Judith Adkins, Program Officer, Division of Research Programs, National Endowment for the Humanities: 400 Seventh Street SW, Washington, DC 20506, or jadkins@neh.gov.

FOR FURTHER INFORMATION CONTACT: Judith Adkins, Program Officer, Division of Research Programs, National Endowment for the Humanities: 400 Seventh Street SW, Washington, DC 20506, or jadkins@neh.gov.

SUPPLEMENTARY INFORMATION:

Overview of This Information Collection

Type of Information Collection: New collection.

Title of Information Collection: History, The Past, and Public Culture Survey.

Abstract: This information collection request is pursuant to a cooperative agreement between NEH and the American Historical Association (AHA). The purpose of the survey is to understand how the public perceives, and engages with, history and the work of historians. NEH, AHA, and the many educational and cultural institutions they support will use the information gathered in the proposed survey to create responsive and effective history and other humanities programming to better serve the American people. Most immediately, NEH will use findings from the survey to inform programming for “A More Perfect Union,” the agency's special initiative advancing civic education and commemorating the nation's 250th anniversary in 2026.

NEH and AHA are developing the survey in collaboration with an advisory board, regional history experts, and Fairleigh Dickinson University Poll (FDUP), a market research and public interest survey center. In April of 2020, FDUP will administer this internet survey to adults in the United States. Survey questions will concern respondents' perceptions of history and its significance, their understanding of the work of historians, and their consumption of history in various forms and via a variety of media and experiences. The survey will be voluntary and will collect both qualitative and quantitative information. FDUP will ensure optimal polling methodology and manage the logistics of the data collection. This survey will not collect any personally identifiable information (PII).

Affected Public: Survey respondents will be comprised of adult individuals in the United States.

Frequency of Information Collection: Once.

Estimated Number of Respondents: 1,500.

Estimated Average Time per Response: 25 minutes.

Estimated Total Burden Hours: 625 hours.

Request for Comments

NEH will make comments submitted in response to this notice, including names and addresses where provided, a matter of public record. NEH will summarize the contents and include them in the request for OMB approval. We are requesting comments on all aspects of this clearance request, including (a) whether the proposed collection of information is necessary for the proper performance of the functions of the agency, including whether the information will have practical utility; (b) the accuracy of the agency's estimate of the burden of the proposed collection of information; (c) ways to enhance the quality, utility, and clarity of the information to be collected; and (d) ways to minimize the burden of the collection of information on respondents, including through the use of appropriate automated, electronic, mechanical, or other technological collection techniques or other forms of information technology.

Dated: October 7, 2019.
Caitlin Cater,
Attorney-Advisor, National Endowment for the Humanities.

[FR Doc. 2019-22188 Filed 10-9-19; 8:45 am]

BILLING CODE 7536-01-P